SMALL BUSINESS ADMINISTRATION

Data Collection Available for Public Comments

ACTION: 60-Day notice and request for comments.

SUMMARY: In accordance with the Paperwork Reduction Act of 1995, this notice announces the Small Business Administration's (SBA) intentions to request approval for reinstatement with modification of a previously approved information collection.

DATES: Submit comments on or before January 28, 2025.

ADDRESSES: Send all comments regarding whether this information collection is necessary for the proper performance of the function of the agency, whether the burden estimates are accurate, and if there are ways to minimize the estimated burden and enhance the quality of the collections, to Elden Hawkes, Jr., Small Business Innovation Research and Technology Transfer Office, Office of Investment and Innovation, Small Business Administration, 409 3rd Street, 6th Floor, Washington, DC 20416.

FOR FURTHER INFORMATION CONTACT: Elden Hawkes, Jr., Partnership and Innovation Specialist, 202-731-8503, FAST@sba.gov, or Curtis B. Rich, Agency Clearance Officer, 202-205-7030, curtis.rich@sba.gov.

SUPPLEMENTARY INFORMATION: The Federal and State Technology Partnership (FAST) Program is a competitive grants program designed to strengthen the technological competitiveness of small businesses seeking funding from the Small Business Innovation Research (SBIR) and Small Business Technology Transfer (STTR) programs. FAST provides funding to organizations to execute state/regional programs that increase the number of SBIR/STTR proposals (through outreach and financial support); increase the number of SBIR/STTR awards (through technical assistance and mentoring); and better prepare SBIR/STTR awardees for commercialization success (through technical assistance and mentoring).

Solicitation of Public Comments: SBA is requesting comments on (a) Whether the collection of information is necessary for the agency to properly perform its mission and functions with respect to the SBIC program; (b) whether the burden estimates are accurate; (c) whether there are ways to minimize the burden, including through the use of automated techniques or other forms of information technology; and (d) whether there are ways to enhance the quality, utility, and clarity of the information.

OMB Control Number 3245-0405

Title: FAST Program Quarterly Reporting Form.

Frequency: Quarterly.

SBA Form Number: N/A.

Description of Respondents: FAST award recipients, including Small Business and Technology Development Centers (SBTDCs), state and local economic development agencies, and other FAST award recipients.

Responses: 200.

Annual Burden: 400.

Curtis Rich,
Agency Clearance Officer.

[FR Doc. 2024-28039 Filed 11-27-24; 8:45 am]

BILLING CODE 8026-09-P